DEPARTMENT OF ENERGY

Federal Energy Regulatory Commission

[Project No. 1061-103]

Pacific Gas and Electric Company; Notice of Application Ready for Environmental Analysis and Soliciting Comments, Recommendations, Terms and Conditions, and Prescriptions

Take notice that the following hydroelectric application has been filed with the Commission and is available for public inspection.

a. Type of Application: Major, new license.

b. Project No.: P-1061-103.

c. Date filed: August 24, 2020.

d. Applicant: Pacific Gas and Electric Company.

e. Name of Project: Phoenix Hydroelectric Project.

f. Location: The existing project is located on the South Fork Stanislaus River and in the Tuolumne River Basin, in Tuolumne County, California. The project occupies 26.99 acres of federal land administered by the U.S. Forest Service and 0.59 acres administered by the Bureau of Land Management.

g. Filed Pursuant to: Federal Power Act 16 U.S.C. 791a-825r.

h. Applicant Contact: Jan Nimick, Vice President, Power Generation, Pacific Gas and Electric Company, 245 Market Street, San Francisco, CA 94105, (415) 973-0629.

i. FERC Contact: Jim Hastreiter, (503) 552-2760 or james.hastreiter@ferc.gov.

j. Deadline for filing comments, recommendations, terms and conditions, and prescriptions: 60 days from the issuance date of this notice; reply comments are due 105 days from the issuance date of this notice.

The Commission strongly encourages electronic filing. Please file comments, recommendations, terms and conditions, and prescriptions using the Commission's eFiling system at https://ferconline.ferc.gov/FERCOnline.aspx. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-1061-103.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted and is ready for environmental analysis at this time.

l. The existing Phoenix Hydroelectric Project operates to provide water to the Tuolumne Utility District, generate power, and meet streamflow requirements for the South Fork Stanislaus River. The project consists of the following existing facilities: (1) A 535-foot-long and 132-foot-high concrete arch dam on the South Fork Stanislaus River, (2) a 172.3 acre reservoir, (3) a 133.1-foot-long and 20-foot-high concrete arch cushion dam, (4) a 15.38-mile-long Main Tuolumne Canal, (5) a Header Box (forebay), a 5,611-foot-long penstock, and a powerhouse with an impulse turbine rated at 1.6 megawatts. The project is estimated to generate an average of 9,956 megawatt-hours annually.

PG&E does not propose any new developments at this time. However, PG&E proposes to modify the existing project boundary to encompass all facilities necessary for operation and maintenance of the project. PG&E proposes to include 21 roads and 14 trails within the project boundary and adjust the boundary around Lyons Reservoir, along the MTC and several of its spill channels, and along the penstock. The area of federal land within the project boundary will increase for Bureau of Land Management lands to 1.55 acres and National Forest Lands to 29.78 acres. With the proposed boundary changes, the overall lands within the project boundary will increase to 348.5 acres

m. In addition to publishing the full text of this document in the Federal Register, the Commission provides all interested persons an opportunity to view and/or print the contents of this document via the internet through the Commission's website at http://www.ferc.gov using the “eLibrary” link. Enter the docket number excluding the last three digits in the docket number field to access the document (i.e., P-1061). At this time, the Commission has suspended access to the Commission's Public Reference Room, due to the proclamation declaring a National Emergency concerning the Novel Coronavirus Disease (COVID-19), issued by the President on March 13, 2020. For assistance, contact FERC Online Support.

All filings must (1) bear in all capital letters the title “COMMENTS”, “REPLY COMMENTS”, “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b) and 385.2010.

You may also register online at https://ferconline.ferc.gov/FERCOnline.aspx to be notified via email of new filings and issuances related to this or other pending projects. For assistance, contact FERC Online Support.

n. A license applicant must file no later than 60 days following the date of issuance of this notice: (1) A copy of the water quality certification; (2) a copy of the request for certification, including proof of the date on which the certifying agency received the request; or (3) evidence of waiver of water quality certification. Please note that the certification request must comply with 40 CFR 121.5(b), including documentation that a pre-filing meeting request was submitted to the certifying authority at least 30 days prior to submitting the certification request. Please also note that the certification request must be sent to the certifying authority and to the Commission concurrently.

o. Procedural schedule: The application will be processed according to the following schedule. Revisions to the schedule will be made as appropriate.

Deadline for Filing Comments, Recommendations, and Agency Terms and Conditions/Prescriptions—August 31, 2021

Licensee's Reply to REA Comments—October 15, 2021

Commission issues Draft EA—May 2022

Comments on EA—June 2022

Commission issues Final EA—September 2022

Commission issues license order—December 2022

Dated: July 2, 2021.
Kimberly D. Bose,
Secretary.

[FR Doc. 2021-14624 Filed 7-8-21; 8:45 am]

BILLING CODE 6717-01-P